DEPARTMENT OF DEFENSE

Department of the Army

Board of Visitors, United States Military Academy (USMA)

AGENCY: Department of the Army, DoD.

ACTION: Notice; correction.

SUMMARY: The notice of an open meeting scheduled for October 20, 2017 published in the Federal Register on September 27, 2017 (82 FR 44995) has a new start time. The time has changed to 09:30 a.m.-12:00 p.m.

FOR FURTHER INFORMATION CONTACT: Mrs. Deadra K. Ghostlaw, the Designated Federal Officer for the committee, in writing at: Secretary of the General Staff, ATTN: Deadra K. Ghostlaw, 646 Swift Road, West Point, NY 10996; by email at: deadra.ghostlaw@usma.edu or BoV@usma.edu; or by telephone at (845) 938-4200.

SUPPLEMENTARY INFORMATION: None.

Brenda S. Bowen,
Army Federal Register Liaison Officer.

[FR Doc. 2017-21573 Filed 10-5-17; 8:45 am]

BILLING CODE 5001-03-P